DEPARTMENT OF HEALTH AND HUMAN SERVICES

Administration for Children and Families

[OMB NO.: 0970-0383]

Submission for OMB Review; Comment Request; Evaluation of the Transitional Living Program (TLP)—Extension

Description:

The Family and Youth Services Bureau (FYSB) and the Office of Planning, Research, Evaluation (OPRE) in the Administration for Children and Families (ACF) are requesting to continue collecting data as part of a currently approved information collection (OMB No. 0970-0383). The purpose is to continue baseline data collection at study enrollment and follow-up data collection for the Evaluation of the Transitional Living Program (TLP). The TLP evaluation was designed to examine the effects of FYSB's Transitional Living Program on runaway and homeless youth, focusing on such outcomes as housing and homelessness, education or training, employment, social connections, socio-emotional well-being, and risk behaviors.

Data collection will include three primary surveys: (1) A survey administered at the time of TLP enrollment (baseline), (2) a survey administered 6 months after enrollment, which will collect information on short-terms outcomes; and (3) a survey administered at 12 months, which will collect information on longer-term outcomes.” Participants will be enrolled through the TLP study sites.

Respondents: Runaway and homeless youth ages 16 to 22 who agree to participate in the study upon enrollment into one of the TLP study sites.

Annual Burden Estimates
Instrument | Total number of respondents | Annual number of respondents | Number of responses per respondent | Average burden hours per response | Annual burden hours
Young Adult Baseline Survey | 600 | 200 | 1 | 0.62 | 124
Young Adult 6-Month Follow Up Survey | 600 | 200 | 1 | 0.61 | 122
Young Adult 12-Month Follow Up Survey | 600 | 200 | 1 | 0.61 | 122
Estimated Total Burden Hours |  |  |  |  | 368

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget Paperwork Reduction Project

Email: OIRA_SUBMISSION@OMB.EOP.GOV

Attn: Desk Officer for the Administration for Children and Families

Mary B. Jones,
ACF/OPRE Certifying Officer.

[FR Doc. 2018-15307 Filed 7-17-18; 8:45 am]

BILLING CODE 4184-33-P